DEPARTMENT OF EDUCATION

Office of Special Education and Rehabilitative Services; Special Education—Technology and Media Services for Individuals With Disabilities—Access to Emerging Technologies (CFDA No. 84.327C)

ACTION: Notice inviting applications for new awards for fiscal year (FY) 2006; Correction.

SUMMARY: On April 13, 2006, we published in the Federal Register (71 FR 19170) a notice inviting applications for new awards for FY 2006 for the Technology and Media Services for Individuals with Disabilities—Access to Emerging Technologies competition. The notice contained a typographical error in the Priority section of the notice.

On page 19170, second column, fifth paragraph, the second sentence is corrected to read, “All projects must ensure that the programming or material contains descriptions and captions.”

FOR FURTHER INFORMATION CONTACT: Jo Ann McCann, U.S. Department of Education, 400 Maryland Avenue, SW., room 4067, Potomac Center Plaza, Washington, DC 20202-2550. Telephone: (202) 245-7434.

If you use a telecommunications device for the deaf (TDD), you may call the Federal Relay Service (FRS) at 1-800-877-8339.

Individuals with disabilities may obtain this document in an alternative format (e.g., Braille, large print, audiotape, or computer diskette) on request by contacting the following office: The Grants and Contracts Services Team, U.S. Department of Education, 400 Maryland Avenue, SW., Potomac Center Plaza, Washington, DC 20202-2550. Telephone: (202) 245-7363.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: May 8, 2006.
John H. Hager,
Assistant Secretary for Special Education and Rehabilitative Services.

[FR Doc. E6-7287 Filed 5-11-06; 8:45 am]

BILLING CODE 4000-01-P